DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS' conclusions regarding the significance of those effects. Environmental Assessments are used as a basis for determining whether or not approval of the proposals constitutes major Federal actions that significantly affect the quality of the human environment in the sense of NEPA section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Apache Corporation, Structure Removal, SEA ES/SR 05-130 | South Marsh Island, Block 57, Lease OCS-G 01193, located 62 miles from the nearest Louisiana shoreline | 1/12/2006
Bois d'Arc Offshore, LTD, Structure Removal, SEA ES/SR 05-139, 05-140, 05-141 | Ship Shoal, Blocks 113 & 114, Leases OCS 00067 & 00064, located 12 miles from the nearest Louisiana shoreline | 2/1/2006
Nippon Oil Exploration U.S.A. Limited, Structure Removal, SEA ES/SR 06-001 | Mobile, Block 862, Lease OCS-G 22820, located 15 miles from the nearest Mississippi shoreline | 2/2/2006
Taylor Energy Corporation, Structure Removal, SEA ES/SR 06-003 | Ship Shoal, Block 218, Lease OCS-G 01022, located 20 miles from the nearest Louisiana shoreline | 2/2/2006
Nippon Oil Exploration U.S.A. Limited, Structure Removal, SEA ES/SR 06-002 | South Marsh, Block 22, Lease OCS-G 00777, located 40 miles from the nearest Louisiana shoreline | 2/2/2006
Apache Corporation, Structure Removal, SEA ES/SR 05-154 | Main Pass, Block 93, Lease OCS-G 19855, located 56 miles from the nearest Louisiana shoreline | 2/8/2006
Energy Resource Technology, Inc., Structure Removal, SEA ES/SR 06-007 | East Cameron, Block 231, Lease OCS-G 02038, located 65 miles from the nearest Louisiana shoreline | 3/3/2006
Energy Resource Technology, Inc., Structure Removal, SEA ES/SR 06-009 | Brazos, Block 452, Lease OCS-G 04713, located 13 miles from the nearest Louisiana shoreline | 3/14/2006
Energy Resource Technology, Inc., Structure Removal, SEA ES/SR 06-006 | East Cameron, Block 38, Lease OCS-G 02562, located 8 miles from the nearest Louisiana shoreline | 3/14/2006
Nexen Petroleum U.S.A., Inc., Structure Removal, SEA ES/SR 06-012 | Vermilion (South), Block 340, Lease OCS-G 02091, located 90 miles from the nearest Louisiana shoreline | 3/14/2006
Maritech Resources, Inc., Structure Removal, SEA ES/SR 06-014 | East Cameron, Block 157, Lease OCS-G 12831, located 46 miles from the nearest Louisiana shoreline | 3/15/2006
Newfield Exploration Company, Structure Removal, SEA ES/SR 06-013 | East Cameron, Block 151, Lease OCS-G 05372, located 42 miles from the nearest Louisiana shoreline | 3/22/2006
Nexen Petroleum U.S.A., Inc., Structure Removal, SEA ES/SR 06-004 | Eugene Island, Block 257, Lease OCS-G 02103, located 50 miles from the nearest Louisiana shoreline | 3/22/2006
Energy Resource Technology, Inc., Structure Removal, SEA ES/SR 06-010 | East Cameron, Block 231, Lease OCS-G 02038, located 13 miles to the nearest Louisiana shoreline | 3/31/2006
Newfield Exploration Company, Structure Removal, SEA ES/SR 06-018 | Main Pass, Block 138, Lease OCS-G 16500, located 20 miles from the nearest Louisiana shoreline | 3/31/2006
Energy Resource Technology, Inc., Structure Removal, SEA ES/SR 06-016 | Matagorda Island, Block 604, Lease OCS-G 06037, located 8 miles from the nearest Texas shoreline | 3/31/2006
Chevron U.S.A., Inc., Structure Removal, SEA ES/SR 06-011 | South Timbalier, Block 51, Lease OCS-G 01240, located 10 miles from the nearest Louisiana shoreline | 3/31/2006
Newfield Exploration Company, Structure Removal, SEA ES/SR 06-017 | West Cameron, Block 146, Lease OCS-G 01996, located 21 miles from the nearest Louisiana shoreline | 3/31/2006

Persons interested in reviewing environmental documents for the proposals listed above or obtaining information about SEAs and FONSIs prepared for activities on the Gulf of Mexico OCS are encouraged to contact MMS at the address or telephone listed in the FOR FURTHER INFORMATION CONTACT section.

Dated: April 10, 2006.
Chris C. Oynes,
Regional Director, Gulf of Mexico OCS Region.

[FR Doc. E6-8505 Filed 5-31-06; 8:45 am]

BILLING CODE 4310-MR-P